DEPARTMENT OF THE TREASURY

Submission for OMB Review; Comment Request

February 7, 2012.

The Department of the Treasury will submit the following information collection request to the Office of Management and Budget (OMB) for review and clearance in accordance with the Paperwork Reduction Act of 1995, Public Law 104-13, on or after the date of publication of this notice.

DATES: Comments should be received on or before March 12, 2012 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave., NW., Suite 11020, Washington, DC 20220, or on-line at www.PRAComment.gov.

FOR FURTHER INFORMATION CONTACT: Copies of the submission(s) may be obtained by calling (202) 927-5331, email at PRA@treasury.gov, or the entire information collection request maybe found at www.reginfo.gov.

Internal Revenue Service (IRS)

OMB Number: 1545-0499.

Type of Review: Extension without change of a currently approved collection.

Title: Simplified Employee Pension-Individual Retirement Accounts Contribution Agreement.

Form: 5305-SEP.

Abstract: This form is used by an employer to make and agreement to provide benefits to all employees under a Simplified Employee Pension (SEP) described in section 408(k). This form is not to be filed with the IRS but to be retained in the employer's records as proof of establishing a SEP and justifying a deduction for contributions to the SEP. The data is used to verify the deduction.

Affected Public: Private Sector: Businesses or other for-profits.

Estimated Total Burden Hours: 495,000.

OMB Number: 1545-1221.

Type of Review: Revision of a currently approved collection.

Title: EE-147-87 (Final) Qualified Separate Lines of Business.

Abstract: The affected public includes employers who maintain qualified employee retirement plans. Where applicable, the employer must furnish notice to the IRS that the employer treats itself as operating qualified separate lines of business and some may request an IRS determination that such lines satisfy administrative scrutiny.

Affected Public: Private Sector: Businesses or other for-profits.

Estimated Total Burden Hours: 444.

OMB Number: 1545-1660.

Type of Review: Extension without change of a currently approved collection.

Title: Notice 99-43, Nonrecognition Exchanges under Section 897.

Abstract: This notice announces a modification of the current rules under Temporary Regulation Sec. 1.897-6T(a)(1) regarding transfers, exchanges, and other dispositions of U.S. real property interests in nonrecognition transactions occurring after June 18, 1980. The new rule will be included in regulations finalizing the temporary regulations.

Affected Public: Private Sector: Businesses or other for-profits.

Estimated Total Burden Hours: 200.

OMB Number: 1545-1788.

Type of Review: Extension without change of a currently approved collection.

Title: Taxpayer Advocacy Panel (TAP) Membership Application Process.

Form: 13013, 13013-D.

Abstract: The Federal advisory Committee Act requires that committee membership be fairly balanced in terms of points of view represented and the functions to be performed. As a result, members of specific committees often have both the expertise and professional skills that parallel the program responsibilities of their sponsoring agencies. Selection of committee members is made based on the FACA's requirements and the potential member's background and qualifications. Therefore, an application, Form 13013, is needed to ascertain the desired skills set for membership. The TAP Tax Check Waiver, Form 13013-D, must be signed as a condition of membership. New and continuing members of IRS Advisory Committees/Councils are required to undergo a tax compliance check. Once signed by the applicant, the tax check wavier authorizes the Government Liaison Disclosure analysts to provide the results to the appropriate IRS officials.

Affected Public: Individuals or Households.

Estimated Total Burden Hours: 525.

Dawn D. Wolfgang,
Treasury PRA Clearance Officer.

[FR Doc. 2012-3196 Filed 2-9-12; 8:45 am]

BILLING CODE 4830-01-P